DEPARTMENT OF LABOR

Employment and Training Administration

[TA-W-91,205]

KBR, Inc., Including On-Site Leased Workers From Technical Staffing Resources Including Workers Whose Wages Are Reported Under Kellogg, Brown, and Root, LLC; KBR Technical Services, Inc.; BR Industrial Operations, LLC; Brown & Root Industrial Services, LLC, and Technical Staffing Resources, Ltd. Houston, Texas; Amended Certification Regarding Eligibility To Apply for Worker Adjustment Assistance

In accordance with Section 223 of the Trade Act of 1974, as amended (“Act”), 19 U.S.C. 2273, the Department of Labor issued a Certification of Eligibility to Apply for Worker Adjustment Assistance on February 3, 2016, applicable to workers and former workers of KBR, Inc., Houston, Texas (subject firm). The Department's notice of determination was published in the Federal Register on February 25, 2016 (81 FR 9511).

At the request of the State of Texas, the Department reviewed the certification for workers of the subject firm. The State's assertion that workers of the subject firm have wages reported under different names has been confirmed.

Based on these findings, the Department is amending this certification to include workers whose wages are reported under: Kellogg, Brown, and Root, LLC; KBR Technical Services, Inc.; BR Industrial Operations, LLC; Brown & Root Industrial Services, LLC, and Technical Staffing Resources, Ltd.

The amended notice applicable to TA-W-91,205 is hereby issued as follows:

All workers of KBR, Inc., including on-site leased workers from Technical Staffing Resources, and including workers whose wages are reported under Kellogg, Brown, and Root, LLC; KBR Technical Services, Inc.; BR Industrial Operations, LLC; Brown & Root Industrial Services, LLC, and Technical Staffing Resources, Ltd., Houston, Texas, who became totally or partially separated from employment on or after December 8, 2014 through February 3, 2018, and all workers in the group threatened with total or partial separation from employment on December 8, 2014 through February 3, 2018, are eligible to apply for adjustment assistance under Chapter 2 of Title II of the Trade Act of 1974, as amended.

Signed in Washington, DC, this 10th day of May, 2016.
Hope D. Kinglock,
Certifying Officer, Office of Trade Adjustment Assistance.

[FR Doc. 2016-12090 Filed 5-23-16; 8:45 am]

BILLING CODE 4510-FN-PA24MY3.